DEPARTMENT OF ENERGY

Federal Energy Regulatory Commission

[Docket No. CP23-523-000]

ANR Pipeline Company; Notice of Schedule for the Preparation of an Environmental Assessment for the Oak Grove Enhancement Project

On August 1, 2023, ANR Pipeline Company (ANR) filed an application in Docket No. CP23-523-000 requesting a Certificate of Public Convenience and Necessity pursuant to section 7(c) and Authorization pursuant to section 7(b) of the Natural Gas Act to construct, operate, and abandon certain natural gas pipeline facilities. The proposed project is known as the Oak Grove Enhancement Project (Project). The Project would include construction of 34.1 miles of new 30-inch-diameter natural gas pipeline to replace 33.6 miles of existing 30-inch-diameter natural gas pipeline in Richland and West Carroll Parishes, Louisiana. According to ANR, its project would improve the integrity and reliability of ANR's system by replacing vintage pipeline facilities installed in the 1950's with new pipeline facilities.

On August 11, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—March 1, 2024

90-day Federal Authorization Decision Deadline ²—May 30, 2024

If a schedule change becomes necessary, additional notice will be provided so that the relevant agencies are kept informed of the Project's progress.

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

Project Description

The Oak Grove Enhancement Project would consist of the following facilities:

• Installation of 34.1 miles of new 30-inch-diameter segment of natural gas pipeline, which will begin at ANR's existing Delhi Compressor Station (CS) in Richland Parish, Louisiana and primarily parallel the existing Line 0-501, 1-501, and 2-501 pipelines before the new segment ties into the existing route just south of State Route 586 in West Carroll Parish, Louisiana at the terminus of the existing Line 0-501 segment to be abandoned.

• Abandonment in place and by removal of 33.6 miles of existing 30-inch-diameter natural gas pipeline, which begins at ANR's existing Delhi CS in Richland Parish and terminates just south of State Route 586 in West Carroll Parish. Approximately one percent (0.25 mile) of the existing Line 0-501 segment would be abandoned by removal, while the remaining existing pipeline segments (totaling 33.35 miles) would be abandoned in place.

The Oak Grove Enhancement Project would not increase or reduce service to any existing ANR customer and no changes to system capacity are proposed. ANR's Project design would allow the existing segment to remain in operation until the replacement pipeline is placed into service.

Background

On August 23, 2023, the Commission issued a Notice of Scoping Period Requesting Comments on Environmental Issues for the Proposed Oak Grove Enhancement Project (Notice of Scoping). The Notice of Scoping was sent to affected landowners; federal, state, and local government agencies; elected officials; environmental and public interest groups; Native American tribes; other interested parties; and local libraries and newspapers. In response to the Notice of Scoping, the Commission received one comment from the Louisiana Department of Wildlife and Fisheries regarding impacts on wildlife habitats. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-523), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 4, 2023.
Kimberly D. Bose,
Secretary.

[FR Doc. 2023-22481 Filed 10-11-23; 8:45 am]

BILLING CODE 6717-01-P